DEPARTMENT OF LABOR

Employment and Training Administration

[TA-W-53,433; TA-W-53,433A]

International Resistive Company, Inc.; a Subsidiary of TT Electronics, PLC, Boone, NC, Including an Employee of International Resistive Company, Inc., a Subsidiary of TT Electronics, PLC, Boone, NC, Located in Athens, AL; Amended Notice of Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on December 5, 2003, applicable to workers of International Resistive Company, Inc., a subsidiary of TT Electronics, PLC, Boone, North Carolina. The notice was published in the Federal Register on January 16, 2004 (69 FR 2626).

At the request of the company, the Department reviewed the certification for workers of the subject firm. The workers are engaged in the production of electronic resistive components.

New information shows that a worker separation occurred involving an employee of the Boone, North Carolina facility of International Resistive Company, Inc. located in Athens, Alabama. Mr. Jack McDaniel provided support services for the production of electronic resistive components at the Boone, North Carolina location of the subject firm.

Based on this new information, the Department is amending this certification to include an employee of the Boone, North Carolina facility of International Resistive Company, Inc., a subsidiary of TT Electronics, PLC, located in Athens, Alabama.

The intent of the Department's certification is to include all workers of International Resistive Company, Inc., a subsidiary of TT Electronics, PLC, Boone, North Carolina, who was adversely affected by increased company imports.

The amended notice applicable to TA-W-53,433 is hereby issued as follows:

All workers of International Resistive Company, Inc., a subsidiary of TT Electronics, PLC, Boone, North Carolina (TA-W-53,433), including an employee of International Resistive Company, Inc., a subsidiary of TT Electronics, PLC, Boone, North Carolina, located in Athens, Alabama (TA-W-53,433A), who became totally or partially separated from employment on or after October 28, 2002 through December 5, 2005, are eligible to apply for adjustment assistance under Section 223 of the Trade Act of 1974, and are also eligible to apply for alternative trade adjustment assistance under Section 246 of the Trade Act of 1974.

Signed at Washington, DC, this 7th day of December 2005.
Linda G. Poole,
Certifying Officer, Division of Trade Adjustment Assistance.

[FR Doc. E5-7375 Filed 12-14-05; 8:45 am]

BILLING CODE 4510-30-P